DEPARTMENT OF TRANSPORTATION

Federal Highway Administration

[Docket No. FHWA-2021-0008]

Agency Information Collection Activities: Request for Comments for a New Information Collection

AGENCY: Federal Highway Administration (FHWA), U.S. Department of Transportation (DOT).

ACTION: Notice of request for the renewal of a previously approved information collection and request for comments.

SUMMARY: The FHWA has forwarded the information collection request described in this notice to the Office of Management and Budget (OMB) for approval of a new (periodic) information collection. We published a Federal Register Notice with a 60-day public comment period on this information collection on May 11, 2021. We are required to publish this notice in the Federal Register by the Paperwork Reduction Act of 1995.

DATES: Please submit comments by July 8, 2021.

ADDRESSES: You may submit comments within 30 days identified by DOT Docket ID Number (FHWA-2021-0008) by any of the following methods:

Website: For access to the docket to read background documents or comments received, go to the Federal eRulemaking Portal: http://www.regulations.gov. Follow the online instructions for submitting comments.

Fax: 1-202-493-2251.

Mail: Docket Management Facility; U.S. Department of Transportation, West Building Ground Floor, Room W12-140, 1200 New Jersey Avenue SE, Washington, DC 20590.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Susanna Hughes Reck, Office of Infrastructure, HISM-20, (202) 366-1548, Federal Highway Administration, 1200 New Jersey Avenue SE, Washington, DC 20590. Office hours are from 8:00 a.m. to 4:30 p.m. ET, Monday through Friday, except Federal holidays.

SUPPLEMENTARY INFORMATION:

Title: Biennial Performance Reporting for the TPM Program.

Background: The MAP-21 (Pub. L. 112-141) and FAST Act (Pub. L. 114-94) transformed the Federal-aid highway program by establishing new requirements for transportation performance management (TPM) to ensure the most efficient investment of Federal transportation funds. Prior to MAP-21, there were no explicit requirements for State DOTs to demonstrate how their transportation program supported national performance outcomes. State DOTs were not required to measure condition or performance, establish targets, assess progress toward targets, or report on condition or performance in a nationally consistent manner that FHWA could use to assess the entire system. It has been difficult for FHWA to examine the effectiveness of the Federal-aid highway program as a means to address surface transportation performance at a national level without States reporting on the above factors. The new TPM requirements, as established by MAP-21 and FAST Act, change this paradigm and require states to measure condition or performance, establish targets, assess progress towards targets and report on condition or performance.

State DOTs now must submit biennial performance reports (23 U.S.C. 150 (e) and 23 CFR 490.107). The information being requested in the TPM Biennial Reports has been provided to the DOT in an electronic format through an online data form called the Performance Management Form (PMF). State DOTs have successfully submitted the required biennial reports in October 2018 and 2020. Alternative formats will be made available where necessary. As part of the rulemaking ¹ implementing the MAP-21 and FAST Act requirements, FHWA evaluated all of the Biennial Reporting requirements in the individual regulatory impact assessments (RIA) and determined the following:

¹ 2nd National Performance Management Measures Rule (PM2): Assessing Pavement Condition for National Highway Performance Program and Bridge Condition for National Highway Performance Program; Assessing Performance of National Highway System, etc. (RIN: 2125-AF53 https://www.govinfo.gov/content/pkg/FR-2017-01-18/pdf/2017-00550.pdf.

3rd National Performance Management Measures Rule (PM3): Assessing Performance of National Highway System, Freight Movement on Interstate System, and Congestion Mitigation and Air Quality Improvement Program (RIN 2125-AF54) https://www.govinfo.gov/content/pkg/FR-2017-01-18/pdf/2017-00681.pdf.

Respondents: 52 State DOTs, including Washington DC and Puerto Rico.

Frequency: Biennially.

Estimated Average Burden per Response: Approximately 2,128 hours annually for an individual State DOT to compile, organize, and submit the report to FHWA.

Estimated Total Annual Burden Hours: Approximately 110,656 hours annually.

Public Comments Invited: You are asked to comment on any aspect of this information collection, including: (1) Ways for the FHWA to enhance the quality, usefulness, and clarity of the collected information; and (2) ways that the burden could be minimized, without reducing the quality of the collected information. The agency will summarize and/or include your comments in the request for OMB's clearance of this information collection.

Authority: The Paperwork Reduction Act of 1995; 44 U.S.C. chapter 35, as amended; and 49 CFR 1.48.

Issued On: June 2, 2021.
Michael Howell,
Information Collection Officer.

[FR Doc. 2021-11918 Filed 6-7-21; 8:45 am]

BILLING CODE 4910-22-P